MILLENNIUM CHALLENGE CORPORATION

[MCC FR 21-12]

Notice of Open Meeting

AGENCY: Millennium Challenge Corporation.

ACTION: Notice.

SUMMARY: In accordance with the requirements of the Federal Advisory Committee Act, the Millennium Challenge Corporation (MCC) Advisory Council was established as a discretionary advisory committee on July 14, 2016. Its charter was renewed for a second term on July 11, 2018 and third term on July 8, 2020. The MCC Advisory Council serves MCC solely in an advisory capacity and provides insight regarding innovations in infrastructure, technology, and sustainability; perceived risks and opportunities in MCC partner countries; new financing mechanisms for developing country contexts; and shared value approaches. The MCC Advisory Council provides a platform for systematic engagement with the private sector and other external stakeholders and contributes to MCC's mission—to reduce poverty through sustainable, economic growth.

DATES: Friday, November 5, 2021, from 9:30 a.m.-11:30 a.m. EDT.

ADDRESSES: The meeting will be held via conference call.

FOR FURTHER INFORMATION CONTACT: Beth Roberts, 202.521.2687, MCCAdvisoryCouncil@mcc.gov or visit https://www.mcc.gov/about/org-unit/advisory-council.

SUPPLEMENTARY INFORMATION:

Agenda. During the Fall 2021 meeting of the MCC Advisory Council, members will be provided an update from MCC leadership. MCC Advisory Council Co-Chairs will discuss inputs to a letter that will be provided to the incoming MCC CEO, and council members will provide advice on the compact program development process and MCC's investment strategy in Malawi and other MCC partner countries that are seeking to focus on agricultural development. Council members will also debrief on the blended finance and climate/energy subcommittee meetings held in July 2021.

Public Participation. The meeting will be open to the public. Members of the public may file written statement(s) before or after the meeting. If you plan to attend, please submit your name and affiliation no later than Tuesday, November 2 to MCCAdvisoryCouncil@mcc.gov to receive dial-in instructions and be placed on an attendee list.

(Authority: Federal Advisory Committee Act, 5 U.S.C. App.)

Dated: October 15, 2021.
Thomas G. Hohenthaner,
Acting VP/General Counsel and Corporate Secretary.

[FR Doc. 2021-22957 Filed 10-20-21; 8:45 am]

BILLING CODE 9211-03-P